DEPARTMENT OF ENERGY

Federal Energy Regulatory Commission

[Docket No. CP18-260-000]

Transcontinental Gas Pipe Line Company, LLC; Notice of Request for Extension of Time

Take notice that on August 31, 2020, Transcontinental Gas Pipe Line Company, LLC (Transco) requested that the Federal Energy Regulatory Commission (Commission) grant an extension of time, until October 23, 2021, to complete abandonment of its North Padre Island (NPI) Lateral from NPI Block 956 to approximately 3.5 miles from shore, Offshore Texas, and its NPI Block “B” Platform (Project), as originally authorized in the October 24, 2018 Order Issuing Certificate (October 24 Order).¹ On October 21, 2019, FERC approved Transco's October 17, 2019 request for a waiver of Ordering Paragraph (B) of the Order and granted an extension of time until and including October 23, 2020 to complete abandonment of Project facilities.²

¹ Transcontinental Gas Pipe Line Company, LLC, 165 FERC ¶ 62,047 (2018).

² Transcontinental Gas Pipe Line Company, LLC, Letter Order Re: Request for Waiver, Docket No. CP18-260-000 (October 21, 2019).

On May 19, 2020 FERC approved Transco's May 14, 2020 request for notice to proceed with Project construction activities.³ On August 21, 2020 Transco provided notice that construction activities commenced for the Project.⁴ Transco states that among other factors, offshore weather systems including Hurricane Hanna have caused significant delays for construction start, and Hurricanes Marco and Laura suspended construction activities and caused de-mobilizations from the construction site in the Gulf of Mexico. Weather permitting, the offshore construction window generally runs from May 1st through September 30th of each year allowing for a very limited window to safely complete activities offshore. Transco states that with the offshore construction window closing soon, Transco intends to complete the platform decommissioning and pipeline abandonment this year and anticipates deferring the platform and jacket removal scope to next year.

³ Transcontinental Gas Pipe Line Company, LLC, Letter Order Re: Notice to Proceed with Construction, Docket No. CP18-260-000 (May 19, 2020).

⁴ Transcontinental Gas Pipe Line Company, LLC, Notice of Commencement of Construction, Docket No. CP18-260-000 (August 21, 2020).

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁵

⁵ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁶ the Commission will aim to issue an order acting on the request within 45 days.⁷ The Commission will address all arguments relating to whether the applicant has demonstrated there is good cause to grant the extension.⁸ The Commission will not consider arguments that re-litigate the issuance of the certificate order, including whether the Commission properly found the project to be in the public convenience and necessity and whether the Commission's environmental analysis for the certificate complied with the National Environmental Policy Act.⁹ At the time a pipeline requests an extension of time, orders on certificates of public convenience and necessity are final and the Commission will not re-litigate their issuance.¹⁰ The OEP Director, or his or her designee, will act on all of those extension requests that are uncontested.

⁶ Contested proceedings are those where an intervenor disputes any material issue of the filing. 18 CFR 385.2201(c)(1) (2019).

⁷ Algonquin Gas Transmission, LLC, 170 FERC ¶ 61,144, at P 40 (2020).

⁸ Id. at P 40.

⁹ Similarly, the Commission will not re-litigate the issuance of an NGA section 3 authorization, including whether a proposed project is not inconsistent with the public interest and whether the Commission's environmental analysis for the permit order complied with NEPA.

¹⁰ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on September 21, 2020.

Dated: September 4, 2020.
Nathaniel J. Davis, Sr.,
Deputy Secretary.

[FR Doc. 2020-20238 Filed 9-14-20; 8:45 am]

BILLING CODE 6717-01-P